DEPARTMENT OF THE INTERIOR

Bureau of Land Management

[LLCON02000.L51010000.ER0000.LVRWC16C8700.16X]

Notice of Availability of the Final Environmental Impact Statement for the Proposed Blue Valley Land Exchange, Grand and Summit Counties, CO

AGENCY: Bureau of Land Management, Interior.

ACTION: Notice of availability.

SUMMARY: In accordance with the National Environmental Policy Act of 1969, as amended, the Bureau of Land Management (BLM) has prepared a Final Environmental Impact Statement (EIS) for the Blue Valley Land Exchange.

DATES: The BLM will issue a final decision on the proposal a minimum of 30 days after the date that the Environmental Protection Agency publishes its Notice of Availability in the Federal Register.

ADDRESSES: Copies of the Blue Valley Land Exchange Final EIS are available in the Kremmling Field Office at 2103 Park Avenue, Kremmling, CO 80459 and online at https://go.usa.gov/xnBJ5.

FOR FURTHER INFORMATION CONTACT: Annie Sperandio, Blue Valley Land Exchange Project Manager, telephone 970-724-3000; address Kremmling Field Office, 2103 Park Avenue, Kremmling, CO 80549; email: kfo_webmail@blm.gov. Persons who use a telecommunications device for the deaf (TDD) may call the Federal Relay Service (FRS) at 1-800-877-8339 to contact Ms. Sperandio during normal business hours. The FRS is available 24 hours a day, 7 days a week, to leave a message or question. You will receive a reply during normal business hours.

SUPPLEMENTARY INFORMATION: The BLM proposes to exchange certain Federal lands for properties owned by Galloway, Inc., the owners of the Blue Valley Ranch. Pursuant to Section 206 of the Federal Land Management and Policy Act of 1976, as amended, the proposed land exchange must be determined to be in the public's interest and appraisals of the Federal and non-Federal parcels must show that the exchange parcels are equal in value. The Federal and non-Federal lands are located within the BLM's Kremmling Field Office and the White River National Forest.

The Final EIS describes and analyzes the Proposed Action (BLM's preferred alternative), another action alternative (Alternative 3), and the No Action alternative. The BLM's preferred alternative would convey approximately 1,489 acres of Federal lands managed by the BLM in Grand County, Colorado, to Blue Valley Ranch in exchange for approximately 1,830 acres of non-Federal lands in Summit and Grand counties, Colorado. It also provides a series of recreation design features along the lower Blue River, including public access easements, ADA-accessible facilities, fishing access, boater rest stops, trails, parking, boat ramps, and picnic facilities. Alternative 3 responds to public comments on the draft EIS, analyzing a reconfigured boundary for BLM parcel I that retains existing public fishing access and drops ranch-owned parcels 3 and 4 from the exchange to balance land values. Also dropped from Alternative 3 are the recreation design features that are part of the Proposed Action.

The BLM sought public participation through a scoping period initiated in April 2016 prior to preparation of the Draft EIS, which assisted the BLM in identifying issues to be addressed in the Draft EIS for the proposed land exchange.

Issues identified by the public during scoping included changes to public fishing access, perceived changes to float boating on the Blue River, concerns about changes to public access for hunting, changes to wildlife management and habitat, changes to the availability of Federal minerals for development, transfer of historic water rights, and issues common for all proposed land exchanges such as concerns about large landowners realizing a benefit from the exchange. These issues are addressed in the analysis in the Final EIS. The BLM would manage lands acquired through the land exchange in accordance with applicable laws and regulations, as well as the 2015 Kremmling Field Office Resource Management Plan, as amended. The White River National Forest would manage approximately 300 acres of lands acquired under the White River National Forest Land and Resource Management Plan. The Blue Valley Ranch would manage lands acquired in accordance with applicable State, county, and local laws and ordinances.

The Draft EIS was available for a 45-day public comment period, which began on May 11, 2018, and ended on June 25, 2018. The comment period included two public meetings: On June 4, 2018, at the Summit County Library in Silverthorne, Colorado, and on June 6, 2018, at the Grand County Extension Office in Kremmling, Colorado. The BLM received 52 comments during the public comment process. Comment responses are in the Final EIS.

(Authority: 40 CFR 1506.6)

Jamie E. Connell,
BLM Colorado State Director.

[FR Doc. 2021-14033 Filed 7-1-21; 8:45 am]

BILLING CODE 4310-JB-P